FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012355-001.

Title: CMA CGM/SL Gulf Bridge Express Slot Charter Agreement.

Parties: CMA CGM, S.A. and Maersk Line A/S DBA Sealand.

Filing Party: Draughn B. Arbona, Esq; CMA CGM (America) LLC; 5701 Lake Wright Drive; Norfolk, VA 23502.

Synopsis: The amendment changes the name of the Maersk entity participating in the Agreement and reduces the number of slots being chartered.

Agreement No.: 012413.

Title: MOL/ELJSA Slot Exchange Agreement.

Parties: Mitsui O.S.K. Lines, Ltd and Evergreen Line Joint Service Agreement.

Filing Party: Eric. C. Jeffrey, Esq.; Nixon Peabody LLP; 799 9th Street NW., Suite 500; Washington, DC 20001.

Synopsis: The agreement authorizes the parties to exchange slots in the trade between the U.S. East Coast on the one hand, and the People's Republic of China (including Hong Kong), Taiwan, Vietnam, Singapore, Sri Lanka, Egypt, and Panama, on the other hand.

Agreement No.: 012414.

Title: LGL/Glovis Space Charter Agreement.

Parties: Liberty Global Logistics LLC and Hyundai Glovis Co., Ltd.

Filing Party: Wayne R. Rohde, Esq., Cozen O'Conner; 1200 Nineteenth Street NW., Washington, DC 20036.

Synopsis: The agreement authorizes the parties to charter space for ro/ro cargo to/from each other in the trade between the U.S. East Coast on the one hand, and Portugal, Spain, France, Italy, Greece, Turkey, Lebanon, Egypt, Jordan, Saudi Arabia, Oman, UAE, Bahrain and Kuwait on the other hand.

By Order of the Federal Maritime Commission.
Dated: May 27, 2016.
Karen V. Gregory,
Secretary.

[FR Doc. 2016-13027 Filed 6-1-16; 8:45 am]

BILLING CODE 6731-AA-P